DEPARTMENT OF ENERGY

Federal Energy Regulatory Commission

Notice of Draft Application for Nonpower License and Preliminary Draft Environmental Assessment (PDEA) and Request for Preliminary Terms and Conditions

October 4, 2000.

Take notice that the following hydroelectric application has been filed with the Commission and is available for public inspection:

a, Type of Application: Nonpower License (Draft).

b. Project No.: 2852.

c. Applicant: New York State Electric & Gas Corporation.

d. Name of Project: Keuka.

e. Location: On Waneta and Lamoka Lakes, Keuka Lake, Mud Creek, in Steuben and Schulyer Counties, New York.

f. Applicant Contact: Carol Howland, New York State Electric & Gas Corporation, Corporate Drive, Kirkwood Industrial Park, P.O. Box 5224, Binghamton, NY 13902-5224.

g. FERC Contact: William Guey-Lee (202) 219-2808, Email: william.gueylee@ferc.fed.us.

h. New York State Electric & Gas Corporation (NYSEG) mailed a copy of the Draft Nonpower License Application and PDEA to interested parties on September 15, 2000. The Commission received a copy of the Draft Application and PDEA on September 21, 2000. Copies of the documents are available from NYSEG at the above address.

i. With this notice we are soliciting preliminary terms, conditions, recommendations, prescriptions, and comments on the PDEA and draft license application. All comments on the PDEA and draft license application should be sent to the address above in item (f) with one copy filed with the Commission at the following address: Federal Energy Regulatory Commission, David P. Boergers, Secretary, 888 First St. NE., Washington, DC 20426. All comments must include the project name and number and bear the heading “Preliminary Comments,” “Preliminary Recommendations,” “Preliminary Terms and Conditions,” or “Preliminary Prescriptions.” Any party interested in commenting on the draft license application and the PDEA, must do so on or before December 15, 2000.

j. With this notice, we are initiating consultation with the STATE HISTORIC PRESERVATION OFFICER (SHPO), as required by Section 106, National Historic Preservation Act, and the regulations of the Advisory Council on Historic Preservation, 36 CFR 800.4.

Linwood A. Watson, Jr.,
Acting Secretary.

[FR Doc. 00-26063 Filed 10-10-00; 8:45 am]

BILLING CODE 6717-01-M